DEPARTMENT OF STATE

[Public Notice: 9972]

List of Participating Countries and Entities in the Kimberley Process Certification Scheme, Known as “Participants” for the Purposes of the Clean Diamond Trade Act of 2003 (Public Law 108-19) and Section 2 of Executive Order 13312 of July 29, 2003

AGENCY: Bureau of Economic and Business Affairs, Department of State.

ACTION: Notice.

SUMMARY: The Department of State is updating the list of Participants eligible for trade in rough diamonds under the Act, and their respective Importing and Exporting Authorities, revising the previously published list of May 18, 2015 to reflect the removal of the suspension of the Central African Republic and the removal of the self-suspension of Venezuela.

DATES: This notice is effective on April 26, 2017.

FOR FURTHER INFORMATION CONTACT: Pamela Fierst-Walsh, Senior Advisor, Bureau of Economic and Business Affairs, Department of State, (202) 647-2856.

SUPPLEMENTARY INFORMATION: Section 4 of the Clean Diamond Trade Act of 2003, Public Law 108-19 (the “Act”) requires the President to prohibit the importation into, or the exportation from, the United States of any rough diamond, from whatever source, that has not been controlled through the Kimberley Process Certification Scheme (KPCS). Under Section 3(2) of the Act, “controlled through the Kimberley Process Certification Scheme” means an importation from the territory of a Participant or exportation to the territory of a Participant of rough diamonds that is either (i) carried out in accordance with the KPCS, as set forth in regulations promulgated by the President, or (ii) controlled under a system determined by the President to meet substantially the standards, practices, and procedures of the KPCS. The referenced regulations are contained at 31 CFR part 592 (“Rough Diamond Control Regulations”) (68 FR 45777, August 4, 2003).

Section 6(b) of the Act requires the President to publish in the Federal Register a list of all Participants, and all Importing and Exporting Authorities of Participants, and to update the list as necessary. Section 2 of Executive Order 13312 of July 29, 2003 delegates this function to the Secretary of State. Section 3(7) of the Act defines “Participant” as a state, customs territory, or regional economic integration organization identified by the Secretary of State. Section 3(3) of the Act defines “Exporting Authority” as one or more entities designated by a Participant from whose territory a shipment of rough diamonds is being exported as having the authority to validate a Kimberley Process Certificate. Section 3(4) of the Act defines “Importing Authority” as one or more entities designated by a Participant into whose territory a shipment of rough diamonds is imported as having the authority to enforce the laws and regulations of the Participant regarding imports, including the verification of the Kimberley Process Certificate accompanying the shipment.

List of Participants

Pursuant to Sections 3 and 6 of the Act, Section 2 of Executive Order 13312, Department of State Delegations of Authority No. 245-1 (February 13, 2009), and No. 376 (October 31, 2011), I hereby identify the following entities as Participants under section 6(b) of the Act. Included in this List are the Importing and Exporting Authorities for Participants, as required by Section 6(b) of the Act. This list revises the previously published list of May 18, 2015 to reflect the reinstatement of the Central African Republic and Venezuela.

Angola—Ministry of Trade, Ministry of Geology and Mines (Exporting Authority), no Importing Authority specified.

Armenia—Ministry of Economy.

Australia—Department of Industry, Innovation and Science (Exporting Authority), Department of Immigration and Border Protection (Importing Authority).

Bangladesh—Export Promotion Bureau.

Belarus—Ministry of Finance.

Botswana—Ministry of Minerals Energy and Water Resources—Diamond Office.

Brazil—Ministry of Mines and Energy—National Department of Mineral Production.

Cambodia—Ministry of Commerce.

Cameroon—National Permanent Secretariat for the Kimberley Process in Cameroon.

Canada—Ministry of Natural Resources Canada.

Central African Republic—Ministry of Mines, Energy and Hydraulics.

China—General Administration of Quality Supervision, Inspection and Quarantine; in the Hong Kong Special Administrative Region: Trade and Industry Department.

Congo, Democratic Republic of the—Ministry of Mines—Le Centre d'Expertise, d'Evaluation et de Certification des Substances Minérales Précieuses et Semi-précieuses.

Congo, Republic of the—Ministry of Mines—Bureau d'Expertise, d'Evaluation et de Certification des Substances Minérales Précieuses.

Cote D'Ivoire (Ivory Coast)—General Directorate of Customs.

European Union—European Commission—Foreign Policy Instruments; in Belgium: Federal Public Service of Economy; in the Czech Republic: General Directorate of Customs; in Germany: Hauptzollamt Koblenz (Exporting Authority), Generalzolldirektion—Direktion VI (Importing Authority); in Portugal: Autoridade Tributária e Aduaneira—Direção de Serviços de Regulação Aduaneira; in Romania: General Department for Precious Metals, Precious Stones and the Kimberley Process—National Authority for Consumer Protection; in the United Kingdom: Foreign and Commonwealth Office—Government Diamond Office.

Ghana—Precious Minerals Marketing Company Limited.

Guinea—Ministry of Mines and Geology.

Guyana—Guyana Geology and Mines Commission.

India—The Gem and Jewellerry Export Promotion Council.

Indonesia—Ministry of Trade—Director General for Foreign Trade.

Israel—Ministry of Economy and Industry—Office of the Diamond Controller.

Japan—Ministry of Economy, Trade and Industry—Agency for Natural Resources and Energy.

Kazakhstan—Ministry for Investments and Development—Committee for Technical Regulation and Metrology.

Korea, Republic of (South Korea)—Ministry of Trade, Industry and Energy.

Laos—Ministry of Industry and Commerce—Department of Import and Export.

Lebanon—Ministry of Economy and Trade.

Lesotho—Ministry of Mining—Department of Mines.

Liberia—Ministry of Lands, Mines and Energy.

Malaysia—Royal Malaysian Customs Department.

Mali—Ministry of Mines—Office of Expertise, Evaluation and Certification of Rough Diamonds.

Mauritius—Ministry of Industry, Commerce and Consumer Protection—Trade Division.

Mexico—Ministry of Economy—Directorate-General for International Trade in Goods.

Namibia—Ministry of Mines and Energy—Directorate of Diamond Affairs.

New Zealand—New Zealand Customs Service.

Norway—Norwegian Customs Service.

Panama—National Customs Authority.

Russia—Ministry of Finance.

Sierra Leone—National Minerals Agency, National Revenue Authority.

Singapore—Singapore Customs.

South Africa—South African Diamond and Precious Metals Regulator.

Sri Lanka—National Gem and Jewellery Authority.

Swaziland—Office of the Commissioner of Mines.

Switzerland—State Secretariat for Economic Affairs.

Taipei—Ministry of Economic Affairs—Bureau of Foreign Trade.

Tanzania—Ministry of Energy and Minerals—Commissioner for Minerals.

Thailand—Ministry of Commerce—Department of Foreign Trade.

Togo—Ministry of Mines and Energy—Head Office of Mines and Geology.

Turkey—Borsa Istanbul Precious Metals and Diamond Market.

Ukraine—State Gemmological Centre of Ukraine.

United Arab Emirates—Dubai Multi Commodities Center Authority.

United States of America—U.S. Customs and Border Protection (Importing Authority), United States Census Bureau (Exporting Authority).

Venezuela—Central Bank of Venezuela.

Vietnam—Ministry of Industry and Trade—Import Export Management Divisions in Hanoi and Ho Chi Minh City.

Zimbabwe—Minerals Marketing Corporation of Zimbabwe (Exporting Authority), Zimbabwe Revenue Authority (Importing Authority).

Patricia M. Haslach,
Acting Assistant Secretary, Bureau of Economic and Business Affairs, Department of State.

[FR Doc. 2017-08385 Filed 4-25-17; 8:45 am]

BILLING CODE 4710-AE-P